NATIONAL SCIENCE FOUNDATION

Submission for OMB Review; Comment Request

AGENCY: National Science Foundation.

ACTION: Notice.

SUMMARY: The National Science Foundation (NSF) is announcing plans to request renewal of this collection, OMB control number 3145-0136, the EHR (Directorate for Education and Human Resources) Impact Database. We are requesting that the name of the collection be changed to EHR Program Information Generic Clearance to better reflect the nature and purpose of the collection. In accordance with the requirement of section 3506(c)(2)(A) of the Paperwork Reduction Act of 1995, we have provided an opportunity for public comment on this action. Such a notice was published at 66 FR 8242, Tuesday, January 30, 2001. No comments were received.

The materials are now being sent to OMB for review. Send any written comments to Desk Officer, OMB, 3145-0136, OIRA, OMB, Washington, D.C. 20503. Comments should be received within 30 days of this notice.

Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

NSF may not conduct or sponsor a collection of information unless the collection of information displays a currently valid OMB control number and the agency informs potential persons who are to respond to the collection of information that such persons are not required to respond to the collection of information unless it displays a currently valid OMB control number.

Proposed Renewal Project

The EHR Impact Database was established in 1995 to integrate all available information pertaining to the NSF's Education and Training portfolio. Under a generic survey clearance (OMB 3145-0136) data from the NSF administrative database are incorporated and additional information is obtained through initiative-, divisional-, and program-specific data collections.

Use of the Information

This information is required for effective administrative, program monitoring and evaluation, and for measuring attainment of NSF's program goals, as required by the Government Performance and Results Act (GPRA).

Burden on the Public

The total estimate for this collection is 50,000 annual burden hours. This figure is based on the previous 3 years of collecting information under this clearance. The average annual reporting burden is between 2 and 50 hours per ‘respondent’ who may be an individual or a project site representing groups.

Dated: May 30, 2001.
Teresa R. Pierce,
NSF Reports Clearance Officer.

[FR Doc. 01-14088 Filed 6-4-01; 8:45 am]

BILLING CODE 7555-01-M